DEPARTMENT OF LABOR

Occupational Safety and Health Administration

Docket No. ICR 1218-0131 (2005)

Hazardous Chemicals in Laboratories Standard; Extension of the Office of Management and Budget's (OMB) Approval of Information Collection (Paperwork) Requirements

AGENCY: Occupational Safety and Health Administration (OSHA), Labor.

ACTION: Request for comment.

SUMMARY: OSHA solicits comments concerning its proposal to extend OMB approval of the information collection requirements contained in the Hazardous Chemicals in Laboratories Standard (29 CFR 1910.1450).

DATES: Comments must be submitted by the following dates:

Hard copy: Your comments must be submitted (postmarked or received) by February 25, 2005.

Facsimile and electronic transmission: Your comments must be received by February 25, 2005.

ADDRESSES: You may submit comments, identified by OSHA Docket No. ICR-1218-0131 (2005), by any of the following methods:

Regular mail, express delivery, hand delivery, and messenger service: Submit your comments and attachments to the OSHA Docket Office, Room N-2625, U.S. Department of Labor, 200 Constitution Avenue, NW., Washington, DC 20210; telephone (202) 693-2350 (OSHA's TTY number is (877) 889-5627). OSHA Docket Office and Department of Labor hours are 8:15 a.m. to 4:45 p.m., ET.

Facsimile: If your comments are 10 pages or fewer in length, including attachments, you may fax them to the OSHA Docket Office at (202) 693-1648.

Electronic: You may submit comments through the Internet at http://dockets.osha.gov/. Follow instructions on the OSHA Web Page for submitting comments.

Docket: For access to the docket to read or download comments or background materials, such as the complete Information Collection Request (ICR) (containing the Supporting Statement, OMB-83-I Form, and attachments), go to OSHA's Web Page at http://www.OSHA.gov. Comments, submissions, and the ICR are available for inspection and copying at the OSHA Docket Office at the address above. You may also contact Todd Owen at the address below to obtain a copy of the ICR.

(For additional information on submitting comments, please see the “Public Participation” heading in the SUPPLEMENTARY INFORMATION section of this document.)

FOR FURTHER INFORMATION CONTACT: Todd Owen, Directorate of Standards and Guidance, OSHA, Room N-3609, U.S. Department of Labor, 200 Constitution Avenue, NW., Washington, DC 20210; telephone (202) 693-2222.

SUPPLEMENTARY INFORMATION:

I. Public Participation—Submission of Comments on This Notice and Internet Access to Comments and Submissions

You may submit comments and supporting materials in response to this notice by (1) hard copy, (2) fax transmission (facsimile), or (3) electronically through the OSHA Web page. Because of security related problems, there may be a significant delay in the receipt of comments by regular mail. Please contact the OSHA Docket Office at (202) 693-2350 (TTY (877) 889-5627) for information about security procedures concerning the delivery of materials by express delivery, hand delivery and messenger service.

All comments, submissions and background documents are available for inspection and copying at the OSHA Docket Office at the above address. Comments and submissions posted on OSHA's Web page are available at http://www.OSHA.gov. Contact the OSHA Docket Office for information about materials not available through the OSHA Web page and for assistance using the Web page to locate docket submissions.

Electronic copies of this Federal Register notice as well as other relevant documents are available on OSHA's Web page.

II. Background

The Department of Labor, as part of its continuing effort to reduce paperwork and respondent (i.e., employer) burden, conducts a preclearance consultation program to provide the public with an opportunity to comment on proposed and continuing information collection requirements in accordance with the Paperwork Reduction Act of 1995 (PRA-95) (44 U.S.C. 3506(c)(2)(A)).

This program ensures that information is in the desired format, reporting burden (time and costs) is minimal, collection instruments are clearly understood, and OSHA's estimate of the information collection burden is accurate. The Occupational Safety and Health Act of 1970 (the Act) (29 U.S.C. 651 et seq.) authorizes information collection by employers as necessary or appropriate for enforcement of the Act or for developing information regarding the causes and prevention of occupational injuries, illnesses, and accidents (29 U.S.C. 657).

The standard entitled “Occupational Exposure to Hazardous Chemicals in Laboratories” (29 CFR 1910.1450; the “Standard”) applies to laboratories that use hazardous chemicals in accordance with the Standard's definitions for “laboratory use of hazardous chemicals” and “laboratory scale.” The Standard requires these laboratories to maintain employee exposures at or below the permissible exposure limits specified for the hazardous chemicals in 29 CFR Part 1910, subpart Z. They do so by developing a written Chemical Hygiene Plan (CHP) that describes: Standard operating procedures for using hazardous chemicals; hazard-control techniques; equipment-reliability measures; measures; employee information-and-training programs; conditions under which the employer must approve operations, procedures, and activities before implementation; and medical consultations and examinations. The CHP also designates personnel responsible for implementing the CHP, and specifies the procedures used to provide additional protection to employees exposed to particularly hazardous chemicals.

Other information-collection requirements of the Standard include: Documenting exposure-monitoring results; notifying employees in writing of these results; presenting specified information and training to employees; establishing a medical surveillance program for overexposed employees; providing required information to the physician; obtaining the physician's written opinion using proper respiratory equipment and establishing, maintaining, transferring, and disclosing exposure-monitoring and medical records. These collection-of-information requirements, including the CHP, control employee overexposure to hazardous laboratory chemicals, thereby preventing serious illnesses and death among employees exposed to such chemicals.

III. Special Issues for Comment

OSHA has a particular interest in comments on the following issues:

—Whether the proposed information collection requirements are necessary for the proper performance of the Agency's functions, including whether the information is useful;

—The accuracy of OSHA's estimate of the burden (time and costs) of the information collection requirements, including the validity of the methodology and assumptions used;

—The quality, utility, and clarity of the information collected; and

—Ways to minimize the burden on employers who must comply; for example, by using automated or other technological information collection and transmission techniques.

IV. Proposed Actions

OSHA is proposing to extend the information collection requirements in the Hazardous Chemicals in Laboratories standard (29 CFR part 1910.1450). The Agency will summarize the comments submitted in response to this notice and will include this summary in its request to OMB to extend the approval of these information collection requirements contained in the Standard.

Type of Review: Extension of currently approved information collection requirements.

Title: Hazardous Chemicals in Laboratories (29 CFR 1910.1450).

OMB Number: 1218-0131.

Affected Public: Business or other for-profit; not-for-profit institutions; Federal government; State, local, or tribal governments.

Number of Respondents: 43,300.

Frequency of Response: Annually; monthly; occasionally.

Average Time per Response: Varies from five minutes (.08 hour) for a variety of requirements (e.g., for an office clerk to develop and post exposure-monitoring results) to eight (8) hours for an employer to develop a Chemical Hygiene Plan.

Estimated Total Burden Hours: 270,636.

Estimated Cost (Operation and Maintenance): $32,615,952.

V. Authority and Signature

John L. Henshaw, Assistant Secretary of Labor for Occupational Safety and Health, directed the preparation of this notice. The authority for this notice is the Paperwork Reduction Act of 1995 (44 U.S.C. 3506 et seq.), and Secretary of Labor's Order No. 5-2002 (67 FR 65008).

Dated: Signed at Washington, DC, on December 17, 2004.
John L. Henshaw,
Assistant Secretary of Labor

[FR Doc. 04-28188 Filed 12-23-04; 8:45 am]

BILLING CODE 4510-26-M